DEPARTMENT OF THE INTERIOR

Fish and Wildlife Service

Notice of Intent To Prepare a Comprehensive Conservation Plan

AGENCY: U.S. Fish and Wildlife Service, Department of the Interior.

ACTION: Notice of intent to prepare a Comprehensive Conservation Plan and Associated National Environmental Policy Act Document for the Sacramento River National Wildlife Refuge, Butte, Glenn, and Tehama Counties, California.

SUMMARY: The U.S. Fish and Wildlife Service (Service) is preparing a Comprehensive Conservation Plan (CCP) and National Environmental Policy Act (NEPA) document for Sacramento River National Wildlife Refuge (NWR). This notice advises the public that the Service intends to gather information necessary to prepare a CCP and environmental documents pursuant to the National Wildlife Refuge System Administration Act of 1966, as amended, and NEPA. The public is invited to participate in the planning process. The Service is furnishing this notice in compliance with the Service CCP policy:

1. To advise other agencies and the public of our intentions, and

2. To obtain suggestions and information on the scope of issues to include in the environmental documents.

3. To announce a series of public open houses to occur in May and June 2001. Information about the time and location of the open house is available by contacting the Refuge.

DATES: To ensure that the Service has adequate time to evaluate and incorporate suggestions and other input into the planning process, comments should be received on or before July 11, 2001.

ADDRESSES: Send written comments or requests to be added to the mailing list to the following address: Planning Team Leader—Sacramento River NWR, California / Nevada Refuge Planning Office, U.S. Fish and Wildlife Service, 2800 Cottage Way, W-1916, Sacramento, California, 95825.

FOR FURTHER INFORMATION CONTACT: Mr. Miki Fujitsubo, Planning Team Leader, (916) 414-6507.

History and Background

The Refuge was established in 1989 by the authority provided under the Endangered Species Act of 1973 and the Emergency Wetlands Resources Act of 1986, using monies made available through the Land and Water Conservation Fund Act of 1965. The Service proposed acquisition of 18,000 acres of land for establishment of the multi-unit Sacramento River NWR. The multiple units of the refuge are located along both banks of the Sacramento River between Red Bluff and Princeton in Glenn, Butte, and Tehama Counties, California. A combination of fee title and conservation easement acquisitions was used to protect this habitat.

Riparian habitat along the Sacramento River has been identified as critically important for various threatened and endangered species, fish, migratory birds, plants, and to the natural ecosystem of the River itself. There has been an 89 percent reduction of riparian vegetation throughout the Sacramento Valley and foothills region, and probably in excess of a 95 percent reduction along the Valley's major river systems. The relatively small amount of remaining riparian woodland provides a strikingly disproportionate amount of habitat value for wildlife.

SUPPLEMENTARY INFORMATION: The National Wildlife Refuge System Administration Act of 1966, as amended, mandates that all lands within the National Wildlife Refuge System are to be managed in accordance with an approved CCP. The CCP will guide management decisions and identify refuge goals, long-range objectives and management strategies for achieving refuge purposes. The planning process will consider many elements, including habitat and wildlife management, habitat protection, cultural resources, and environmental effects. Public input into this planning process is very important. The CCP will provide other agencies and the public with a clear understanding of the desired conditions for the refuges and how the Service will implement management strategies.

The Service is soliciting information from the public via written comments. The Service will send out special mailings, newspaper articles, and announcements to people who are interested in the refuge. These mailings will provide information on how to participate in public involvement for the CCP. Comments received will be used to develop goals, key issues, and habitat management strategies. Additional opportunities for public participation will occur throughout the process, which is expected to be completed in mid-2002. Data collection has been initiated to create computerized mapping, including vegetation, topography, habitat types and existing land uses.

The outcome of this planning process will be a CCP to guide refuge management for the next 15 years and accompanying NEPA document.

We have estimated that a draft CCP and NEPA document will be made available for public review in early 2002.

Dated: May 17, 2001.
John Engbring,
Acting California/Nevada Operations Manager,U.S. Fish and Wildlife Service,Sacramento, California.

[FR Doc. 01-14577 Filed 6-8-01; 8:45 am]

BILLING CODE 4310-55-P